DEPARTMENT OF ENERGY

Federal Energy Regulatory Commission

[Docket Nos. RM19-6-000; AD19-7-000; AD19-8-000]

Hydroelectric Licensing Regulations Under America's Water Infrastructure Act of 2018; Notice Establishing Schedule Pursuant to America's Water Infrastructure Act of 2018

On October 23, 2018, the President signed America's Water Infrastructure Act of 2018 (Act) into law. In addition to amending part 1 of the Federal Power Act as it relates to certain aspects of preliminary permits, qualifying conduit hydropower facilities, and hydropower licenses, the Act directs the Federal Regulatory Commission (FERC or Commission) to:

(1) Issue a rule not later than 180 days after the date of enactment of the Act, establishing an expedited process for issuing and amending licenses for qualifying facilities at existing nonpowered dams that will seek to ensure a final decision by the Commission on an application for a license no later than two years after receipt of a completed application;

(2) With the Secretary of the Army, the Secretary of the Interior, and the Secretary of Agriculture, jointly develop a list of existing nonpowered Federal dams that the Commission and the Secretaries agree have the greatest potential for non-Federal hydropower development, and make the list available to the public and provide the list to certain Committees of the House of Representatives and the Senate not later than 12 months after the date of enactment of the Act;

(3) Issue a rule not later than 180 days after the date of enactment of the Act, establishing an expedited process for issuing and amending licenses for closed-loop pumped storage projects that will seek to ensure a final decision by the Commission on an application for a license by no later than two years after receipt of a completed application; and

(4) Hold a workshop not later than six months after the date of enactment of the Act to explore potential opportunities for development of closed-loop pumped storage projects at abandoned mine sites, and issue guidance no later than one year after the date of enactment of the Act to assist applicants for licenses or preliminary permits for closed-loop pumped storage projects at abandoned mine sites.

In establishing the expedited processes for issuing and amending licenses for qualifying facilities at existing nonpowered dams and closed-loop pumped storage projects, sections 3003 and 3004 of the Act require the Commission to convene an interagency task force (ITF), with appropriate federal and state agencies and Indian tribes represented, to coordinate the regulatory processes associated with the authorizations required to construct and operate these projects. By concurrent notice, the Commission has invited federal and state agencies and Indian tribes to request participation on the ITF by filing a statement of interest with the Commission by November 29, 2018.

The Commission has established three dockets in order to implement the requirements of the Act: RM19-6-000 (Licensing Regulations under America's Water Infrastructure Act of 2018); AD19-7-000 (Nonpowered Dams List); and AD19-8-000 (Closed-loop Pumped Storage Projects at Abandoned Mines Guidance).

Because the Act requires the Commission to issue a rule establishing the expedited licensing processes not later than 180 days after the date of enactment of the Act, the Commission has established a schedule with abbreviated deadlines. The schedule, which is subject to change, is included below.

November 29, 2018 | Deadline for federal and state agencies and Indian tribes to file a statement requesting participation on the ITF.
December 12, 2018 | Commission staff will hold coordination session for the ITF to discuss proposals for the expedited licensing processes.
January/February 2019 | Commission staff will issue a Notice of Proposed Rulemaking (NOPR) for the expedited licensing processes.
February 2019 | Commission staff will hold a workshop for closed-loop pumped storage project at abandoned mine sites.
March 2019 | NOPR public comment period will close.
April 2019 | Commission will issue final rule for expedited processes.
April 2019 | Commission staff will provide applicable federal agencies, including the Secretaries of Army, Interior, and Agriculture, Commission staff's draft list of existing nonpowered federal dams having the greatest potential for non-Federal hydropower development.
August 2019 | Commission staff will issue the final nonpowered Federal dams list.
September 2019 | Commission staff will issue guidance for closed-loop pumped storage projects at abandoned mine sites.

For more information about this notice, please contact:

Shana Wiseman (RM19-6-000), Office of Energy Projects, Federal Energy Regulatory Commission, 888 First Street NE, Washington, DC 20426, (202) 502-8736, shana.wiseman@ferc.gov.

Kim Nguyen (AD19-7-000), Office of Energy Projects, Federal Energy Regulatory Commission, 888 First Street NE, Washington, DC 20426, (202) 502-6105, kim.nguyen@ferc.gov.

Monir Chowdhury (AD19-8-000), Office of Energy Projects, Federal Energy Regulatory Commission, 888 First Street NE, Washington, DC 20426, (202) 502-6736, monir.chowdhury@ferc.gov.

Dated: November 13, 2018.
Kimberly D. Bose,
Secretary.

[FR Doc. 2018-25177 Filed 11-16-18; 8:45 am]

BILLING CODE 6717-01-P